DEPARTMENT OF LABOR

Employment and Training Administration

[TA-W-54,718]

Hood Cable Company, Yazoo City, MS; Dismissal of Application for Reconsideration

Pursuant to 29 CFR 90.18(C) an application for administrative reconsideration was filed with the Director of the Division of Trade Adjustment Assistance for workers at Hood Cable Company, Yazoo City, Mississippi. The application contained no new substantial information which would bear importantly on the Department's determination. Therefore, dismissal of the application was issued.

TA-W-54,718; Hood Cable Company, Yazoo City, Mississippi (June 29, 2004).

Signed in Washington, DC, this 30th day of June, 2004.
Timothy Sullivan,
Director, Division of Trade Adjustment Assistance.

[FR Doc. 04-15310 Filed 7-6-04; 8:45 am]

BILLING CODE 4510-30-P